DEPARTMENT OF HOMELAND SECURITY

Coast Guard

33 CFR Part 110

[Docket No. USCG-2016-0916]

RIN 1625-AA01

Anchorages; Captain of the Port Puget Sound Zone, WA; Notice of Tribal Consultation

AGENCY: Coast Guard, DHS.

ACTION: Notification of tribal consultation.

SUMMARY: The Coast Guard seeks input from tribal officials, tribal governments, tribal organizations, and tribal members on a notice of proposed rulemaking entitled “Anchorages; Captain of the Port Puget Sound Zone, WA” that was published in the Federal Register on February 10, 2017. As stated in that document, this rulemaking proposes the creation of several new anchorages, holding areas, and a non-anchorage area as well as the expansion of one existing general anchorage in the Puget Sound area. The Coast Guard encourages all interested tribes to R.S.V.P. to the formal consultation to be held on July 13, 2017, and provide information on which treaty rights are impacted and how the Coast Guard should consider these rights in its rulemaking analysis.

DATES: A formal government to government consultation is scheduled to be held on July 13, 2017, from 9 a.m. to 3 p.m. to provide an opportunity for oral comments. R.S.V.P.s to the consultation must be submitted by June 30, 2017, to the person listed below at FOR FURTHER INFORMATION CONTACT. Written comments and related material may also be submitted to Coast Guard personnel specified at that meeting. The comment period for the proposed rule published on February 10, 2017 (82 FR 10313), which was reopened on May 16, 2017 (82 FR 22448), closes on August 9, 2017. All comments and related material submitted after the meeting must be received by the Coast Guard on or before August 9, 2017.

ADDRESSES: The location of the tribal consultation is to be determined at this time. The Coast Guard will publish a supplemental notification in the Federal Register and will also conduct outreach to the tribes to communicate the location of the formal consultation.

You may submit written comments identified by docket number USCG-2016-0916 using the Federal eRulemaking Portal at http://www.regulations.gov.

FOR FURTHER INFORMATION CONTACT: If you have questions concerning the meeting or the proposed rule, please call or email Mr. Laird Hail, U.S. Coast Guard Sector Puget Sound; telephone 206-217-6051, email SectorPugetSoundWWM@uscg.mil.

SUPPLEMENTARY INFORMATION:

Background and Purpose

We published a notice of proposed rulemaking (NPRM) in the Federal Register on February 10, 2017 (82 FR 10313), entitled “Anchorages; Captain of the Port Puget Sound Zone, WA.” In it we stated that this proposed rule does not have tribal implications under Executive Order 13175, Consultation and Coordination with Indian Tribal Governments, because it would not have a substantial direct effect on one or more Indian tribes, on the relationship between the Federal Government and Indian tribes, or on the distribution of power and responsibilities between the Federal Government and Indian tribes. 82 FR 10314. We received letters from two tribes requesting additional time to comment and have concluded, notwithstanding the Coast Guard's position that this proposed rule does not have tribal implications under Executive Order 13175, that a formal government to government consultation would aid this rulemaking. The Coast Guard greatly values the government to government relationship it has with the tribes, and desires to continue a meaningful dialogue on shared interests. Therefore, we are publishing this notification so that the tribes can identify and communicate to the Coast Guard which treaty rights are impacted and how the Coast Guard should consider these rights in its rulemaking analysis.

In the NPRM, we proposed the creation of several new anchorages, holding areas, and a non-anchorage area as well as the expansion of one existing general anchorage in the Puget Sound area, as detailed in the proposed regulatory text. The proposed anchorages and areas have been used for many years informally, however, they are not included on nautical charts, referenced in the Coast Pilot, or subject to anchorage regulations. This rulemaking also proposes new and updated regulations governing anchorages and areas in the Puget Sound area, as detailed in the proposed regulatory text. The codification of these anchorages and areas, along with the new and updated regulations, would improve the safety of all Puget Sound waterway users by having the anchorages and areas included on nautical charts, referenced in the Coast Pilot, subject to appropriate regulations, and available to Vessel Traffic Service (VTS) Puget Sound whenever necessary to manage vessel traffic.

You may view the NPRM in our online docket, in addition to supporting documents prepared by the Coast Guard—e.g., environmental checklist, and comments submitted thus far, by going to http://www.regulations.gov. Once there, insert “USCG-2016-0916” in the “Keyword” box and click “Search.”

We encourage all interested tribes to participate in this formal consultation by responding orally at the consultation or in writing. If you bring written comments to the formal consultation, you may submit them to Coast Guard personnel specified at the meeting to receive written comments. These comments will be submitted to our online public docket. All comments received will be posted without change to http://www.regulations.gov and will include any personal information you have provided.

Comments submitted after the meeting must reach the Coast Guard on or before August 9, 2017. We encourage you to submit comments through the Federal eRulemaking Portal at http://www.regulations.gov. If your material cannot be submitted using http://www.regulations.gov, contact the person in the FOR FURTHER INFORMATION CONTACT section of this document for alternate instructions.

Anyone can search the electronic form of comments received into any of our dockets by the name of the individual submitting the comment (or signing the comment, if submitted on behalf of an association, business, labor union, etc.). You may review a Privacy Act notice regarding our public dockets in the March 24, 2005 issue of the Federal Register (70 FR 15086).

Information on Service for Individuals With Disabilities

For information on facilities or services for individuals with disabilities or to request special assistance at the tribal consultation, contact at Mr. Laird Hail at the telephone number or email address indicated under the FOR FURTHER INFORMATION CONTACT section of this notice.

Tribal Government to Government Consultation

The Coast Guard will hold a formal tribal government to government consultation regarding its proposed rule on Thursday, July 13, 2017 from 9 a.m. to 3 p.m. at the location to be published shortly. We request that tribes intending to participate in this consultation submit the following information to the person in the FOR FURTHER INFORMATION CONTACT section of this document by June 30, 2017: (1) Whether the tribe will attend the face-to-face tribal consultation, (2) the name and contact information of anyone other than the Chief Executive of the tribe that is authorized to engage in government to government consultation with the Coast Guard for this tribal consultation, and (3) any proposed agenda items and written materials it intends to present. We will also provide a written summary of the government to government tribal consultation and comments and will place that summary in the docket. Members of the public will have time to submit further comments between the posting of the summary of the tribal consultation and the closing of the comment period.

Dated: May 26, 2017.
D.G. Throop,
Rear Admiral, U.S. Coast Guard, Commander, Thirteenth Coast Guard District.

[FR Doc. 2017-11456 Filed 5-30-17; 4:15 pm]

BILLING CODE 9110-04-P